DEPARTMENT OF HEALTH AND HUMAN SERVICES

Centers for Disease Control and Prevention

Statement of Organization, Functions, and Delegations of Authority

Part C (Centers for Disease Control and Prevention) of the statement of Organization, Functions, and Delegations of Authority of the Department of Health and Human Services (45 FR 67772-76, dated October 14, 1980, and corrected at 45 FR 69296, October 20, 1980, as amended most recently at 70 FR 46527-46530, dated August 10, 2005) is amended to reflect the establishment of the Coordinating Center for Health Information and Service at the Centers for Disease Control and Prevention.

Section C-B, Organization and Functions, is hereby amended as follows:

After the mission statement for the Centers for Disease Control and Prevention (C), delete the title Coordinating Center for Health Information and Service (CP) and insert the following:

Coordinating Center for Health Information and Service (CP). The mission of the Coordinating Center for Health Information and Service (CCHIS) is to assure that CDC provides high-quality information and programs in the most effective ways to help people, families, and communities protect their health and safety. Through continuous consumer input, prevention research, and public health information technology, we identify and evaluate health needs and interests, translate science into actions to meet those needs, and engage the public in the excitement of discovery and the progress being made to improve the health of the nation.

In carrying out its mission, the CCHIS (1) fosters collaborations, partnerships, integration, and resource leveraging to increase CDC's health impact and achieve population health goals; (2) disseminates and evaluates CDC programs and products; (3) manages programs, messages to the public, and policies in innovative ways; (4) monitors, analyzes, and disseminates high quality, timely health information which achieves positive public health outcomes; (5) plans and coordinates marketing efforts to achieve CDC's health impact goals related to people, places, and preparedness; (6) plans, directs, and coordinates information systems to support performance measurement and knowledge management related to CDC's health impact goals and other data systems to measure progress towards accomplishment of the goals; (7) assures that health information, interventions, and programs are appropriately packaged and released in a timely manner; (8) collects, analyzes and disseminates national health statistics on vital events and health activities; (9) applies the latest public health informatics strategies and information technology to public health practice, research, and learning; (10) provides consultation and technical assistance, public health surveillance and informatics, health information systems, prevention effectiveness, scientific communications, behavioral science, statistics, and development of community health practice guidance; (11) identifies critical cross-CDC relationships and devotes concerted, consistent and high-level attention to these relationships in order to maximize CDC's success in achieving priority health goals; and (12) provides leadership in the development and coordination of high-priority partnerships and sets strategy and goals for working with the health sectors and partners (business and workers, health care, education, federal agencies, foundations, faith and community organizations, and public health community including state and local health organizations).

Office of the Director (CPA). (1) Provides leadership and guidance and evaluates the activities of the CCHIS; (2) develops overarching goals and objectives and provides leadership, policy formation, scientific oversight and guidance in program planning and development; (3) coordinates assistance provided by CCHIS to other CDC components, other federal, state, and local agencies, the private sector and other nations; (4) provides and coordinates resource management requirements for CCHIS; (5) develops and provides guidance on workforce development activities within CCHIS and coordinates the recruitment, assignment, technical supervision and career development of staff, with emphasis on goals for equal employment opportunity and diversity where appropriate; (6) develops strategies, programs and procedures to ensure quality and integrity in the research activities; and (7) collaborates as appropriate with other coordinating centers, centers, offices, institutes of CDC, and other public health service agencies and other federal agencies.

Dated: August 10, 2005.
William H. Gimson,
Chief Operating Officer, Centers for Disease Control and Prevention (CDC).

[FR Doc. 05-17076 Filed 8-26-05; 8:45 am]

BILLING CODE 4160-18-M